FEDERAL COMMUNICATIONS COMMISSION

47 CFR Part 73

[MB Docket No. 18-320; RM-11817; DA 18-1242]

Digital Television Broadcast Stations (Morehead and Richmond, Kentucky)

AGENCY: Federal Communications Commission.

ACTION: Final rule.

SUMMARY: At the request of ION Media Lexington License, Inc. (ION), licensee of television station WUPX-TV, channel 21, Morehead, Kentucky (WUPX), the Commission amends the DTV Table of Allotments to reallot channel 21 from Morehead, Kentucky, to Richmond, Kentucky.

DATES: Effective December 27, 2018.

FOR FURTHER INFORMATION CONTACT: Darren Fernandez, Media Bureau, at Darren.Fernandez@fcc.gov; or Joyce Bernstein, Media Bureau, at Joyce.Bernstein@fcc.gov.

SUPPLEMENTARY INFORMATION: This is a summary of the Report and Order in MB Docket No. 18-320; RM-11817; DA18-1242, adopted December 11, 2018, and released December 11, 2018. The full text of this document is available for public inspection and copying during normal business hours in the FCC's Reference Information Center at Portals II, CY-A257, 445 12th Street SW, Washington, DC 20554, or online at http://apps.fcc.gov/ecfs/. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

§ 73.622 [Amended]

2. Amend § 73.622(i), the Post-Transition Table of DTV Allotments under Kentucky, by removing Morehead, channel 21, and adding, in alphabetical order, Richmond, channel 21.

[FR Doc. 2018-27865 Filed 12-26-18; 8:45 am]

BILLING CODE 6712-01-P